DEPARTMENT OF EDUCATION

34 CFR Chapter I

Individuals With Disabilities Education Act, as Amended by the Individuals With Disabilities Education Improvement Act of 2004

AGENCY: Office of Special Education and Rehabilitative Services (OSERS), Department of Education.

ACTION: Notice of public meetings.

SUMMARY: The Secretary announces plans to hold a series of public meetings to seek comments and suggestions about proposed regulations, which the Secretary intends to publish in a Notice of Proposed Rule Making (NPRM) in the Spring of 2005, to implement programs under the recently amended IDEA.

DATES: The public meetings will be held from 1 p.m. to 4 p.m. and from 5 p.m. to 7 p.m.:

Monday, June 6, 2005 in San Antonio, TX;

Friday, June 17, 2005 in Nashville, TN;

Wednesday, June 22, 2005 in Sacramento, CA;

Friday, June 24, 2005 in Las Vegas, NV;

Monday, June 27, 2005 in New York, NY;

Wednesday, June 29, 2005 in Chicago, IL; and

Tuesday, July 12, 2005 in Washington, DC.

ADDRESSES: OSERS will provide specific location information through the NPRM to be published in the Federal Register in the Spring of 2005.

Individuals who need accommodations for a disability in order to attend the meetings (i.e., interpreting services, assistive listening devices, or material in alternative formats) should notify the contact person listed under FOR FURTHER INFORMATION CONTACT. The meeting locations will be accessible to individuals with disabilities.

FOR FURTHER INFORMATION CONTACT: Troy R. Justesen, Acting Deputy Assistant Secretary, Office of Special Education and Rehabilitative Services, U.S. Department of Education, 400 Maryland Avenue, SW., room 5138, Potomac Center Plaza, Washington, DC 20202. Telephone: (202) 245-7468.

If you use a telecommunications device for the deaf (TDD), you may call the Federal Relay Service (FRS) at 1-800-877-8339.

SUPPLEMENTARY INFORMATION:

Background

On December 3, 2004, The President signed into law Public Law 108-446, the Individuals with Disabilities Education Improvement Act of 2004, amending the Individuals with Disabilities Education Act (IDEA). Copies of the new law may be obtained at the following Web site: http://edworkforce.house.gov/issues/108th/education/idea/conferencereport/confrept.htm.

Enactment of the new law provides an opportunity to consider improvements in the regulations implementing the IDEA (including both formula and discretionary grant programs) that would strengthen the Federal effort to ensure every child with a disability has available a free appropriate public education that is (1) of high quality, and (2) designed to achieve the high standards reflected in the No Child Left Behind Act of 2001 (NCLB) and regulations. The Secretary intends to publish an NPRM in the Federal Register in the Spring of 2005, proposing regulations to implement the new law.

Announcement of Public Meetings: OSERS will be holding a series of public meetings during June and July of calendar year 2005, to seek additional comments and suggestions from the public after developing and publishing proposed rules to implement programs under the recently amended IDEA.

This notice provides information about dates, locations and times of these public meetings (see DATES earlier in this notice).

Electronic Access to this Document: You may view this document, as well as all other documents this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: March 28, 2005.
John H. Hager,
Assistant Secretary for Special Education and Rehabilitative Services.

[FR Doc. 05-6510 Filed 3-31-05; 8:45 am]

BILLING CODE 4000-01-P